DEPARTMENT OF TRANSPORTATION

Federal Railroad Administration

[Docket Number FRA-2020-0064]

Petition for Waiver of Compliance

Under part 211 of title 49 Code of Federal Regulations (CFR), this document supplements the August 11, 2020, notice to the public (85 FR 48631) regarding the July 28, 2020, petition by BNSF Railway Company (BNSF) for a waiver of compliance from certain provisions of the Federal railroad safety regulations contained at 49 CFR part 213. The Federal Railroad Administration (FRA) assigned the petition Docket Number FRA-2020-0064.

In support of its petition, BNSF referenced data and analysis from BNSF's ongoing Track Inspection Test Program, Docket Number FRA-2018-0091, however the specific data was not included in the petition. FRA requested that BNSF provide all applicable data, and FRA has posted the data to Docket Number FRA-2020-0064 (Document No. FRA-2020-0064-0005). Based on this new information, FRA is extending the public comment period for 45 days.

A copy of the petition, as well as any written communications concerning the petition, if any, are available for review online at www.regulations.gov.

Interested parties are invited to participate in these proceedings by submitting written views, data, or comments. FRA does not anticipate scheduling a public hearing for these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

• Hand Delivery: 1200 New Jersey Ave. SE, Room W12-140, Washington, DC 20590, between 9 a.m. and 5 p.m., Monday through Friday, except Federal Holidays.

Communications received by November 13, 2020 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety Chief Safety Officer.

[FR Doc. 2020-21467 Filed 9-28-20; 8:45 am]

BILLING CODE 4910-06-P